DEPARTMENT OF DEFENSE

Department of the Army, Corps of Engineers

Notice for the Great Lakes and Mississippi River Interbasin Study (GLMRIS)

AGENCY: Department of the Army, U.S. Army Corps of Engineers, DOD.

ACTION: Notice.

SUMMARY: The U.S. Army Corps of Engineers (USACE), Chicago District has posted on http://glmris.anl.gov/documents/interim/anscontrol/screening/index.cfm aquatic nuisance species (ANS) Controls that can be used to prevent the transfer of algae, crustaceans, fish and plants via aquatic pathways. USACE is announcing a comment period to allow for the submission of information on available ANS Controls for these organism types.

In a December 8, 2010 notice of intent, Federal Register Notice (75 FR 76447), USACE announced it will prepare a feasibility report and an Environmental Impact Statement (EIS) for GLMRIS. GLMRIS is a feasibility study of the range of options and technologies that could be applied to prevent ANS transfer between the Great Lakes and Mississippi River basins through aquatic pathways. USACE is conducting GLMRIS in consultation with other federal agencies, Native American tribes, state agencies, local governments and non-governmental organizations. For additional information regarding GLMRIS, please refer to the project Web site http://glmris.anl.gov.

This notice announces a comment period during which USACE is asking the public to submit (i) information on ANS Controls that may be effective at preventing the transfer of fish, algae, crustaceans and plants in the CAWS but are missing from the USACE's lists of ANS Controls, or (ii) comments regarding the identified ANS Controls.

DATES: USACE will be accepting public comments through February 21, 2013. Please refer to the “ANS Control Screening Comment Period ” section below for details on the information USACE is seeking during this comment period and instructions on comment submittal.

FOR FURTHER INFORMATION CONTACT: For further information and/or questions about GLMRIS, please contact USACE, Chicago District, Project Manager, Ms. Nicole Roach, by mail: USACE, Chicago District, 111 N. Canal, Suite 600, Chicago, IL 60606, or by email: nicole.l.roach@usace.army.mil.

For media inquiries, please contact USACE, Chicago District, Public Affairs Officer, Ms. Lynne Whelan, by mail: USACE, Chicago District, 111 N. Canal, Suite 600, Chicago, IL 60606, by phone: 312-846-5330 or by email: lynne.e.whelan@usace.army.mil.

SUPPLEMENTARY INFORMATION: 1. Background. USACE is conducting GLMRIS in consultation with other federal agencies, Native American tribes, state agencies, local governments and non-governmental organizations. For GLMRIS, USACE will explore ANS Controls that could be applied to prevent ANS transfer between the Great Lakes and Mississippi River basins through aquatic pathways. In the Aquatic Nuisance Species of Concern White Paper http://glmris.anl.gov/documents/ans/index.cfm, USACE, in collaboration with our stakeholders, identified ANS of Concern and their corresponding organism types. These ANS of Concern and organism types were the initial focus of GLMRIS for the Chicago Area Waterway (CAWS). USACE identified over 90 options and technologies to prevent the transfer of the ANS of Concern via aquatic pathways http://glmris.anl.gov/documents/interim/anscontrol/index.cfm. The ANS Controls include, but are not limited to, hydrologic separation of the basins, modification of water quality or flow within a waterway, chemical application to ANS, collection and removal of ANS from a waterway, as well as other types of controls currently in research and development.

As part of the ongoing analysis and in collaboration with state and federal agencies, USACE refined the organism types warranting further consideration to the following: algae, crustaceans, fish and plants. Additionally, USACE in collaboration with governmental agencies and organizations screened the list of ANS Controls per organism type and has posted them for public review at http://glmris.anl.gov/documents/interim/anscontrol/screening/index.cfm.

USACE will formulate plans using of one or more of the screened ANS Controls in consideration of four criteria: completeness, effectiveness, efficiency, and acceptability. USACE will evaluate the effects of the alternative plans.

USACE is conducting GLMRIS in accordance with the National Environmental Policy Act (NEPA) and with the Economic and Environmental Principles and Guidelines for Water and Related Land Resource Implementation Studies, Water Resources Council, March 10, 1983.

2. ANS Control Screening Comment Period. The screened ANS Controls are found at http://glmris.anl.gov/documents/interim/anscontrol/screening/index.cfm. This notice announces a comment period during which USACE is asking the public to submit (i) information on ANS Controls that may be effective at preventing the transfer of fish, algae, crustaceans and plants in the CAWS but are missing from these lists, or (ii) comments regarding the identified ANS Controls.

The comment period runs through February 21, 2013, and comments may be submitted in the following ways:

• GLMRIS project Web site: Use the web form found at www.glmris.anl.gov through February 21, 2013;

• Mail: Mail written information to GLMRIS ANS Control Screening, 111 N. Canal, Suite 600, Chicago, IL 60606. Comments must be postmarked by February 21, 2013; and

• Hand Delivery: Comments may be hand delivered to the USACE, Chicago District office located at 111 N. Canal St., Suite 600, Chicago, IL 60606 between 8:00 a.m. and 4:30 p.m. Comments must be received by February 21, 2013.

Authority: This action is being undertaken pursuant to the Water Resources and Development Act of 2007, Section 3061, Pub. L. 110-114, 121 STAT. 1121, and NEPA of 1969, 42 U.S.C. 4321, et seq., as amended.

Dated: January 10, 2013.
Roy J. Deda,
Deputy for Project Management, U.S. Army Corps of Engineers, Chicago District.

[FR Doc. 2013-01043 Filed 1-17-13; 8:45 am]

BILLING CODE 3720-58-P